DEPARTMENT OF TRANSPORTATION

Federal Aviation Administration

[AC No. 120-XX]

Proposed Advisory Circular on Parts 121, 125, and 135 and Flightcrew Procedures During Taxi Operations

AGENCY: Federal Aviation Administration (FAA). DOT.

ACTION: Notice of availability of proposed Advisory Circular (AC) for parts 121, 125, and 135 Flightcrew Procedures During Taxi Operations, and request for comments.

SUMMARY: This notice announces the availability of and requests comments on a proposed AC that provides advisory material and recommends safe procedures, standards, and practices relating to taxi operation. This notice is necessary to give all interested persons the opportunity to present their view on the proposed AC.

DATES: Comments must be received on or before March 1, 2001.

ADDRESSES: Send all comments on the proposed AC to: Federal Aviation Administration, Air Transportation Division (Attention AFS-220), 800 Independence Avenue SW., Washington, DC 20591, or electronically to Clayton.Hewitt@faa.gov. Comments may be inspected at the above address between 9 a.m. and 4 p.m. weekdays, except Federal holidays.

FOR FURTHER INFORMATION CONTACT: Clay Hewitt, AFS-200, at the address above, by e-mail at Clayton.Hewitt@faa.gov, or telephone at (202) 267-9209.

SUPPLEMENTARY INFORMATION:

Comments Invited

The proposed AC is available on the FAA Web site at http://www.faa.gov/avr/afs/acs/ac-idx.htm, under AC No. 120-XX. A copy of the proposed AC may be obtained by contacting the person named above under FOR FURTHER INFORMATION CONTACT. Interested persons are invited to comment on the proposed AC by submitting such written data, views, or arguments as they may desire. Please identify AC 120-XX, parts 121, 125, and 135 Flightcrew Procedures During Taxi Operations, and submit comments, either hard copy or electronically, to the appropriate address listed above.

Issued in Washington, DC, on January 22, 2001.
L. Nicholas, Lacey.
Director, Flight Standards Service.

[FR Doc. 01-2558 Filed 1-29-01; 8:45 am]

BILLING CODE 4910-13-M